DEPARTMENT OF HEALTH AND HUMAN SERVICES

Office of Global Affairs: Virtual Stakeholder Listening Session in Preparation for the 75th World Health Assembly

Time and date: The session will be held on Friday, May 13, 2022, from 10:00 a.m.-12:00 p.m. Eastern Time (ET).

Place: The session will be held virtually, and registration is required. Please RSVP by May 6, 2022 by sending your full name, email address, and organization to OGA.RSVP@hhs.gov. OGA encourages early registration.

Status: Open, but requiring RSVP to OGA.RSVP@hhs.gov to register.

Purpose: The U.S. Department of Health and Human Services (HHS)—charged with leading the U.S. delegation to the 75th World Health Assembly—will hold an informal Stakeholder Listening Session on Friday, May 13, 10:00 a.m.-12:00 p.m. ET. The listening session will be held virtually, and the meeting link will be shared with registered participants prior to the session.

The Stakeholder Listening Session will help the HHS Office of Global Affairs prepare the U.S. delegation to the World Health Assembly by taking full advantage of the knowledge, ideas, feedback, and suggestions from all communities interested in and affected by agenda items to be discussed at the 75th World Health Assembly. The U.S. Government will consider contributions received from the stakeholders as it develops the U.S. positions.

The listening session will be organized by agenda item, and participation is welcome from stakeholder communities, including:

• Public health and advocacy groups;

• State, local, and Tribal groups;

• Private industry;

• Minority health organizations; and

• Academic and scientific organizations.

All agenda items to be discussed at the 75th World Health Assembly can be found at this website: https://apps.who.int/gb/e/e_wha75.html.

RSVP: Registration is required for the event. Please send your full name, email address, and organization to OGA.RSVP@hhs.gov to register. Please RSVP no later than Friday, May 6, 2022.

Written comments are welcome and encouraged, even if you are planning on attending the virtual session. Please send written comments to the email address: OGA.RSVP@hhs.gov.

We look forward to hearing your comments related to the 75th World Health Assembly agenda items.

Dated: May 2, 2022.
Susan C. Kim,
Chief of Staff, Office of Global Affairs.

[FR Doc. 2022-09710 Filed 5-5-22; 8:45 am]

BILLING CODE 4150-38-P